DEPARTMENT OF THE INTERIOR

Fish and Wildlife Service

[FWS-HQ-ES-2025-N041; FXES11110900000-267-FF09E24000; OMB Control Number 1018-0119]

Agency Information Collection Activities; Submission to the Office of Management and Budget; Policy for Evaluation of Conservation Efforts When Making Listing Decisions (PECE)

AGENCY: Fish and Wildlife Service, Interior.

ACTION: Notice of information collection; request for comment.

SUMMARY: In accordance with the Paperwork Reduction Act of 1995 (PRA), we, the U.S. Fish and Wildlife Service (Service), are proposing to renew a currently approved information collection without change.

DATES: Interested persons are invited to submit comments on or before March 2, 2026.

ADDRESSES: Written comments and recommendations for the proposed information collection should be sent within 30 days of publication of this notice to https://www.reginfo.gov/public/do/PRAMain. Find this particular information collection by selecting “Currently under Review—Open for Public Comments” or by using the search function. Please provide a copy of your comments to the Service Information Collection Clearance Officer, U.S. Fish and Wildlife Service, MS: PRB (JAO/3W), 5275 Leesburg Pike, Falls Church, VA 22041-3803 (mail); or by email to Info_Coll@fws.gov. Please reference “1018-0119” in the subject line of your comments.

FOR FURTHER INFORMATION CONTACT: Madonna L. Baucum, Service Information Collection Clearance Officer, by email at Info_Coll@fws.gov, or by telephone at (703) 358-2503. Individuals in the United States who are deaf, deafblind, hard of hearing, or have a speech disability may dial 711 (TTY, TDD, or TeleBraille) to access telecommunications relay services. Individuals outside the United States should use the relay services offered within their country to make international calls to the point-of-contact in the United States. You may also view the information collection request at https://www.reginfo.gov/public/do/PRAMain.

SUPPLEMENTARY INFORMATION: In accordance with the Paperwork Reduction Act (PRA; 44 U.S.C. 3501 et seq.) and its implementing regulations at 5 CFR part 1320, all information collections require approval under the PRA. We may not conduct or sponsor, and you are not required to respond to, a collection of information unless it displays a currently valid Office of Management and Budget (OMB) control number.

On August 11, 2025, we published in the Federal Register (90 FR 38658) a notice of our intent to request that OMB approve this information collection. The Service published the Federal Register notice on Regulations.gov (Docket No. FWS-HQ-NWRS-2025-0023) to provide the public with an additional method to submit comments (in addition to the typical email and U.S. mail submission methods). In that notice, we solicited comments for 60 days, ending on October 10, 2025. We received the following comments in response to that notice:

Comment 1: Electronic comment received August 11, 2025 via Regulations.gov (FWS-HQ-ES-2025-0008-0002) from Jan Publie. The commenter did not address the information collection requirements.

Agency Response to Comment 1: No response required.

Comment 2: Anonymous electronic comment received September 22, 2025 via Regulations.gov (FWS-HQ-ES-2025-0008-0003). The commenter did not address the information collection requirements.

Agency Response to Comment 2: No response required.

Comment 3: Electronic comment received October 3, 2025 via Regulations.gov (FWS-HQ-ES-2025-0008-0004) from Michael B. Sloane, Director, on behalf of the New Mexico Department of Game and Fish. The commenter indicated their agency responded to previous requests for information regarding the listing decision process for a variety of species and their responses were prepared with minimal time requirements (1-4 hours per request). They also indicated they provided information to inform Species Status Assessments for a variety of species and participated in the development of conservation and management plans. For these activities, the commenter indicated the information collection activities were not burdensome and that the information collected is valuable and reflective of a good collaboration with State agencies and consideration of their perspectives and conservation work. The commenter expressed their appreciation for the opportunity to comment on the information collection process.

Agency Response to Comment 3: No response required.

Comment 4: Electronic comment received October 9, 2025 via Regulations.gov (FWS-HQ-ES-2025-0008-0005) from W. Laird Hamberlin, Chief Executive Officer, on behalf of the Safari Club International (SCI). The submission included the following comments:

The commenter indicated SCI supports PECE because it is consistent with the Endangered Species Act (ESA) and provides a thoughtful and structured method to consider conservation efforts that have not yet generated measurable results. However, they also indicated SCI feels PECE is incomplete and believes that PECE should explicitly include the efforts made by a foreign nation to protect species. SCI recommends that FWS develop a policy to specifically address considerations of efforts being made by foreign nations or political subdivisions of foreign nations to protect species.

Agency Response to Comment 4: We appreciate SCI's comment and recommendation for ways to expand our considerations of efforts being made by foreign nations to protect species; however, revisions to the PECE Policy are outside the scope of the currently approved information collection. We will consider this suggestion in the future if we undertake a revision to the PECE Policy.

Comment 5: Electronic comment received October 10, 2025 via Regulations.gov (FWS-HQ-ES-2025-0008-0006) from Jennifer A. McIvor, EWAC Policy Chair, John M. Anderson, EWAC Executive Director, and Brooke Marcus, Nossaman LLP, on behalf of the Energy and Wildlife Action Coalition. The submission included the following comments:

EWAC encourages FWS to continue to incentivize and collect information on voluntary conservation efforts across the United States.

EWAC highlighted that voluntary conservation plays a critical role in species protection and can directly influence the Service's decision not to list species under the Endangered Species Act (ESA). EWAC did not provide any information on the information collection burden related to the PECE policy but stated that resources expended to collect information on voluntary conservation will help further national energy and grid reliability goals.

Agency Response to Comment 5: We appreciate EWAC's comment and support for the PECE Policy.

Comment 6: Electronic comment received October 10, 2025 via Regulations.gov (FWS-HQ-ES-2025-0008-0007) from Andrew Langer, Director, and Kiley McLeroy, Policy Analyst, on behalf of the Conservative Political Action Coalition (CPAC) Center for Regulatory Freedom (CRF). The submission included the following comments opposing the renewal of the information collection associated with PECE:

The CPAC-CRF stated that the PECE Policy is not based on the best reading of the statutory authority and should be rescinded. The CPAC-CRF contends that the Policy which allows FWS to consider voluntary conservation efforts when making listing decisions under the ESA misinterprets the ESA's intent, which they assert is focused on protecting species already classified as endangered or threatened—not those that might become so in the future.

Their comment also cited legal and procedural concerns they have with the information collection and PECE policy.

Further, CPAC-CRF's comment invokes Executive Order 14219 and the Supreme Court's 2024 decision in Loper Bright Enterprises v. Raimondo, which overturned Chevron deference. They argue that PECE relies on agency interpretation rather than the “best reading” of the ESA, making it legally indefensible under current federal policy and judicial precedent.

Agency Response to Comment 6: We appreciate CPAC-CRF's comment, however, the concerns regarding the legality of the PECE Policy are outside the scope of the currently approved information collection.

As part of our continuing effort to reduce paperwork and respondent burdens, we are again inviting the public and other Federal agencies to comment on new, proposed, revised, and continuing collections of information. This helps us assess the impact of our information collection requirements and minimize the public's reporting burden. It also helps the public understand our information collection requirements and provide the requested data in the desired format.

We are especially interested in public comment addressing the following:

(1) Whether or not the collection of information is necessary for the proper performance of the functions of the agency, including whether or not the information will have practical utility;

(2) The accuracy of our estimate of the burden for this collection of information, including the validity of the methodology and assumptions used;

(3) Ways to enhance the quality, utility, and clarity of the information to be collected; and

(4) How might the agency minimize the burden of the collection of information on those who are to respond, including through the use of appropriate automated, electronic, mechanical, or other technological collection techniques or other forms of information technology, e.g., permitting electronic submission of response.

Comments that you submit in response to this notice are a matter of public record. Before including your address, phone number, email address, or other personal identifying information in your comment, you should be aware that your entire comment—including your personal identifying information—may be publicly available at any time. While you can ask us in your comment to withhold your personal identifying information from public review, we cannot guarantee that we will be able to do so.

Abstract: Section 4 of the Endangered Species Act (ESA; 16 U.S.C. 1531 et seq.) outlines the process by which we can list a species as a threatened species or an endangered species. When we consider whether to list a species, the ESA requires us to take into account the efforts made by any State or any political subdivision of a State to protect such species. We also consider the efforts made by other entities. States or other entities often formalize conservation efforts in conservation agreements, conservation plans, management plans, or similar documents. The conservation efforts recommended or described in such documents could prevent some species from becoming so imperiled that they meet the definition of a threatened species or an endangered species under the ESA.

The Policy for Evaluation of Conservation Efforts When Making Listing Decisions (PECE; 68 FR 15100, March 28, 2003) encourages the development of conservation agreements or plans and provides the standard that an individual conservation effort must meet in order for us to consider whether it is likely to make a difference in a species' status. PECE applies to formalized conservation efforts that have not been implemented or have been implemented but have not yet demonstrated if they are effective at the time of a listing decision.

Under PECE, formalized conservation efforts are defined as conservation efforts (specific actions, activities, or programs designed to eliminate or reduce threats or otherwise improve the status of a species) identified in a conservation agreement, conservation plan, management plan, or similar document. To assist us in evaluating whether a formalized conservation effort meets the standard under PECE, we collect information such as conservation plans, monitoring results, and progress reports. The development of any agreement or plan is voluntary. The PECE is posted on our candidate conservation website at https://www.fws.gov/library/collections/candidate-conservation-policies-regulations-and-guidance.

Title of Collection: Policy for Evaluation of Conservation Efforts When Making Listing Decisions (PECE).

OMB Control Number: 1018-0119.

Form Number: None.

Type of Review: Extension without change of a currently approved collection.

Respondents/Affected Public: Primarily State, local, or Tribal governments. However, individuals, businesses, and not-for-profit organizations also could develop agreements/plans or may agree to implement certain conservation efforts identified in a State agreement or plan.

Respondent's Obligation: Required to obtain or retain a benefit.

Frequency of Collection: On occasion.

Total Estimated Annual Nonhour Burden Cost: None.

Activity | Estimated number of annual respondents | Average number of submissions each | Estimated number of annual responses | Completion time per response (hours) | Estimated annual burden hours
PECE—Reporting
Individuals | 1 | 1 | 1 | 120 | 120
Private Sector | 1 | 1 | 1 | 120 | 120
Government | 1 | 1 | 1 | 120 | 120
PECE—Monitoring
Individuals | 1 | 1 | 1 | 600 | 600
Private Sector | 1 | 1 | 1 | 600 | 600
Government | 1 | 1 | 1 | 600 | 600
PECE—Development of Conservation Plan/Agreement (One-Time Burden)
Individuals | 1 | 1 | 1 | 2,000 | 2,000
Private Sector | 1 | 1 | 1 | 2,000 | 2,000
Government | 1 | 1 | 1 | 2,000 | 2,000
Totals | 9 |  | 9 |  | 8,160

An agency may not conduct or sponsor and a person is not required to respond to a collection of information unless it displays a currently valid OMB control number.

The authority for this action is the Paperwork Reduction Act of 1995 (44 U.S.C. 3501 et seq.).

Madonna Baucum,
Information Collection Clearance Officer, U.S. Fish and Wildlife Service.

[FR Doc. 2026-01909 Filed 1-29-26; 8:45 am]

BILLING CODE 4333-15-P